DEPARTMENT OF COMMERCE

International Trade Administration

[A-533-838]

Carbazole Violet Pigment 23 from India: Preliminary Results of Antidumping Duty Administrative Review

AGENCY: Import Administration, International Trade Administration, Department of Commerce.

SUMMARY: In response to a request from an interested party, the Department of Commerce (the Department) is conducting an administrative review of the antidumping duty order on carbazole violet pigment 23 from India. The review covers one manufacturer/exporter, Alpanil Industries. The period of review is December 1, 2005, through November 30, 2006. We have preliminarily determined that Alpanil Industries made sales below normal value. We invite interested parties to comment on these preliminary results. Parties who submit comments in this review are requested to submit with each argument a statement of each issue and a brief summary of the argument.

EFFECTIVE DATE: December 7, 2007.

FOR FURTHER INFORMATION CONTACT: Yang Jin Chun or Richard Rimlinger, AD/CVD Operations, Office 5, Import Administration, International Trade Administration, U.S. Department of Commerce, 14th Street and Constitution Avenue, NW, Washington, DC 20230; telephone: (202) 482-5760 and (202) 482-4477, respectively.

SUPPLEMENTARY INFORMATION:

Background

On December 29, 2004, we published in the Federal Register the antidumping duty order on carbazole violet pigment 23 (CVP 23) from India. See Notice of Amended Final Determination of Sales at Less Than Fair Value and Antidumping Duty Order: Carbazole Violet Pigment 23 From India, 69 FR 77988 (December 29, 2004) (Antidumping Duty Order). On December 1, 2006, we published in the Federal Register a notice of opportunity to request an administrative review of the antidumping duty order on CVP 23 from India. See Antidumping or Countervailing Duty Order, Finding, or Suspended Investigation; Opportunity To Request Administrative Review, 71 FR 69543 (December 1, 2006). On December 29, 2006, pursuant to section 751(a) of the Tariff Act of 1930, as amended (the Act), and 19 CFR 351.213(b), Alpanil Industries (Alpanil) requested an administrative review of the antidumping duty order on CVP 23 from India. On February 2, 2007, in accordance with section 751(a) of the Act and 19 CFR 351.221(c)(1)(i), we published a notice of initiation of administrative review of this order. See Initiation of Antidumping and Countervailing Duty Administrative Reviews and Request for Revocation in Part, 72 FR 5005 (February 2, 2007). On August 22, 2007, we extended the due date for the completion of the preliminary results of review from September 4, 2007, to October 19, 2007. See Carbazole Violet Pigment 23 from India: Extension of Time Limit for Preliminary Results of Antidumping Duty Administrative Review, 72 FR 46954 (August 22, 2007). On October 16, 2007, we extended the due date for the completion of the preliminary results from October 19, 2007, to December 3, 2007. See Carbazole Violet Pigment 23 from India: Extension of Time Limit for Preliminary Results of Antidumping Duty Administrative Review, 72 FR 58639 (October 16, 2007). The administrative review of the order on CVP 23 from India for Alpanil covers the period December 1, 2005, through November 30, 2006.

Scope of the Order

The merchandise subject to this antidumping duty order is carbazole violet pigment 23 (CVP-23) identified as Color Index No. 51319 and Chemical Abstract No. 6358 30 1, with the chemical name of diindolo [3,2-b:3¡¬,2¡¬-m] triphenodioxazine, 8,18-dichloro-5, 15-diethy-5, 15-dihydro-, and molecular formula of C34H22C12N4O2.¹ The subject merchandise includes the crude pigment in any form (e.g., dry powder, paste, wet cake) and finished pigment in the form of presscake and dry color. Pigment dispersions in any form (e.g., pigment dispersed in oleoresins, flammable solvents, water) are not included within the scope of the order. The merchandise subject to this antidumping duty order is classifiable under subheading 3204.17.90.40 of the Harmonized Tariff Schedule of the United States (HTSUS). Although the HTSUS subheading is provided for convenience and customs purposes, the written description of the scope of this order is dispositive.

¹ The bracketed section of the product description, [3,2-b:3¡¬,2¡¬-m], does not contain business- proprietary information. In this case, the brackets are simply part of the chemical nomenclature. See Antidumping Duty Order.

United States Sales

U.S. Customs and Border Protection (CBP) data we obtained indicate that CBP suspended the liquidation of only a portion of the U.S. sales of subject merchandise reported by Alpanil. Therefore, pursuant to section 751(a)(2)(A) of the Act, we limited this review to these sales of CVP 23.

Export Price

To determine whether sales of CVP 23 from India to the United States were made at prices less than normal value, we compared the U.S. price to the normal value. For the price of sales by Alpanil to the United States, we used export price as defined in section 772(a) of the Act because the subject merchandise was first sold to an unaffiliated purchaser in the United States. Section 772(a) of the Act defines export price as “the price at which the subject merchandise is first sold (or agreed to be sold) before the date of importation by the producer or exporter of the subject merchandise outside of the United States to an unaffiliated purchaser in the United States or to an unaffiliated purchaser for exportation to the United States, as adjusted under subsection (c).” We calculated Alpanil's export price based on the prices of the subject merchandise sold to unaffiliated customers in, or for exportation to, the United States. See section 772(c) of the Act. We made deductions for movement expenses incurred in India and international movement expenses incurred for sales of the subject merchandise to the United States in accordance with section 772(c)(2)(A) of the Act.

Section 772(c)(1)(C) of the Act requires the Department to increase export price by the amount of the countervailing duty imposed on the subject merchandise to offset an export subsidy. The countervailing-duty order on CVP 23 from India is currently in effect. See Notice of Countervailing Duty Order: Carbazole Violet Pigment 23 From India, 69 FR 77995 (December 29, 2004). In preparing these preliminary results of review, we determined that no adjustment is appropriate in this case. Due to the business-proprietary nature of our decision, please see the Alpanil preliminary analysis memorandum dated December 3, 2007 (Preliminary Analysis Memorandum), at 4.

Alpanil reported that it calculated its U.S. credit expenses by using the short-term U.S. interest rate that it derived from the U.S. Federal Reserve statistical release at http://www.federalreserve.gov/releases/h15/data/m/prime.tx. We found that the Federal Reserve statistical release for short-term interest rate for the period of review does not support the U.S. credit expenses Alpanil reported. Therefore, we recalculated a U.S. short-term interest rate of 6.7975 percent for the period of review based on the U.S. Federal Reserve statistical release and used this rate to recalculate Alpanil's U.S. credit expenses. See Preliminary Analysis Memorandum at 5 for more details on our calculation methodology.

Comparison-Market Sales

In order to determine whether there was a sufficient volume of sales in the comparison market to serve as a viable basis for calculating normal value, we compared the volume of home-market sales of the foreign like product in India to the volume of the U.S. sales of the subject merchandise in accordance with section 773(a)(1) of the Act. Based on this comparison of the aggregate quantities of the home-market and U.S. sales and absent any information that a particular market situation in the exporting country did not permit a proper comparison, we determined that the quantity of the foreign like product sold by Alpanil in the home market was greater than five percent of its aggregate volume of the sales of the subject merchandise and therefore sufficient to permit a proper comparison with the sales of the subject merchandise, pursuant to section 773(a)(1) of the Act. Thus, we determined that Alpanil's home market was viable as the comparison market during the period of review. See section 773(a)(1) of the Act. Therefore, in accordance with section 773(a)(1)(B)(i) of the Act, we based normal value for the respondent on the prices at which the foreign like product was first sold for consumption in India in the usual commercial quantities and in the ordinary course of trade and, to the extent practicable, at the same level of trade as the comparison-market sales. See the “Level of Trade” section below for more details.

Model-Matching Methodology

We compared U.S. sales with sales of the foreign like product in the home market. Specifically, in making our comparisons, we attempted to make comparisons to weighted-average monthly home-market prices that were based on all sales of the identical product. Because no identical match was found, we matched similar merchandise on the basis of the comparison product which was closest in terms of the physical characteristics to the product sold in the United States. These characteristics, in the order of importance, are form, stability, dispersion, and tone. We made comparisons to weighted-average monthly home-market prices that were based on all sales of the most-similar product to the U.S. product. Because we were able to match all U.S. products to similar home-market products, we did not need to calculate the constructed value of the U.S. product as the basis for normal value.

Normal Value

We based normal value for Alpanil on the prices of the foreign like products sold to its comparison-market customers. When applicable, we made adjustments for differences in packing and movement expenses in accordance with sections 773(a)(6)(A) and (B) of the Act. Because we calculated normal value using sales of similar merchandise, we also made adjustments for differences in cost attributable to differences in physical characteristics of the merchandise pursuant to section 773(a)(6)(C)(ii) of the Act and 19 CFR 351.411. In addition, we made adjustments for differences in circumstances of sale to cover differences in payment terms in accordance with section 773(a)(6)(C)(iii) of the Act and 19 CFR 351.410. We made circumstance-of-sale adjustments by deducting home-market direct selling expenses from, and adding U.S. direct selling expenses to, normal value.

Level of Trade

In accordance with section 773(a)(1)(B)(i) of the Act, to the extent practicable, we determined normal value based on sales in the home market at the same level of trade as the export-price sales. The normal-value level of trade is based on the starting price of the sales in the home market. For export-price sales, the U.S. level of trade is based on the starting price of the sales to the U.S. market.

We examined the differences in selling activities reported in Alpanil's responses to our requests for information. Alpanil reported two customer categories and three channels of distribution for its home-market sales. The two customer categories are end-users and distributors and the three channels of distribution are end-users, large distributors, and small distributors. Alpanil divided its channels of distribution based on the quantity of the customer's usual order. Alpanil mixed different customer categories within each channel of distribution and reported differences in selling functions for each channel. Alpanil reported that the selling activities in these channels were similar with no meaningful differences.

With respect to its home-market sales, Alpanil reported that it incurred expenses for the following selling functions and activities for all three channels of distribution: sales forecasting, sales promotion, inventory maintenance, order input/processing, direct sales personnel, and sales/marketing support. Alpanil reported that it paid commissions to consignees for sales to end-users and small distributors and provided after-sales services to distributors.² We examined Alpanil's selling activities described above and found them to be similar with respect to sales forecasting, sales promotion, inventory maintenance, order input/processing, direct sales personnel, and sales/marketing support. We examined Alpanil's payment of commission and after-sales services and found that, because Alpanil performed these two selling functions for only a small number of sales transactions and because Alpanil's other selling functions described above are similar, they are not sufficient for us to find different levels of trade in the home market. Therefore, we find that Alpanil has one level of trade in its home market.

² Alpanil reported that it provided cash discounts and freight deliveries to end-users, small distributors, and large distributors, paid for advertising and technical assistance to end-users and small distributors, and paid rebates to small distributors. We did not take these selling functions into account in our level-of-trade analysis because no evidence on the record supports Alpanil's assertion that it performed these selling functions. Alpanil did not report direct or indirect expenses for these selling functions in its home-market sales database. We reviewed Alpanil's breakdown of home-market indirect selling expenses and found that Alpanil did not incur expenses for these selling functions as indirect selling expenses. Also, even though Alpanil reported that it provided after-sales services to end-users, we find that it provided after-sales services not to end-users but to distributors. Alpanil provided billing adjustments for a small number of home-market sales to distributors to cover expenses they incurred to customize the products after sales. Other than the selling-function chart, Alpanil did not provide any evidence on the record that it provided after-sales services to end-users.

Alpanil reported two channels of distribution for two categories of U.S. customers, end-users and trading companies. Alpanil reported that the selling activities were identical for all U.S. customer categories. With respect to its export-price sales, Alpanil reported that it incurred expenses for sales forecasting, inventory maintenance, order input/processing, direct sales personnel, sales/marketing support, and freight and delivery.³

³ Alpanil reported that direct sales personnel and sales/marketing support are not sales activities for its exports to the United States. We found that these two selling activities did take place in Alpanil's export-price sales because Alpanil sold the subject merchandise to the United States and reported the names of its employees involved directly in the sales to the United States and their salaries.

Therefore, we find that sales in the U.S. market were made at one level of trade. We also find that the U.S. level of trade was the same as that of the home-market level of trade, given that Alpanil's selling functions associated with its home-market level of trade were similar with no meaningful differences to those associated with the U.S. market level of trade. They were similar with respect to sales forecasting, inventory maintenance, order input/processing, direct sales personnel, and sales/marketing support. Thus, we were able to match Alpanil's export-price sales to sales at the same level of trade in the home market and no level-of-trade adjustment was necessary.

Preliminary Results of the Review

As a result of our review, we preliminarily determine that the weighted-average dumping margin on CVP 23 from India for the period December 1, 2005, through November 30, 2006, for Alpanil is 23.41 percent.

Comments

We will disclose the calculations used in our analysis to parties to this review within five days of the date of publication of this notice. Any interested party may request a hearing within 30 days of the date of publication of this notice. Interested parties who wish to request a hearing or to participate in a hearing if a hearing is requested must submit a written request to the Assistant Secretary for Import Administration within 30 days of the date of publication of this notice. Requests should contain the following: (1) the party's name, address, and telephone number; (2) the number of participants; and (3) a list of issues to be discussed.

Issues raised in the hearing will be limited to those raised in the case and rebuttal briefs. Case briefs from interested parties may be submitted not later than 30 days after the date of publication of this notice of preliminary results of review. Rebuttal briefs from interested parties, limited to the issues raised in the case briefs, may be submitted not later than five days after the time limit for filing the case briefs or comments. Any hearing, if requested, will be held two days after the scheduled date for submission of rebuttal briefs. Parties who submit case briefs or rebuttal briefs in this proceeding are requested to submit with each argument a statement of the issue, a summary of the arguments not exceeding five pages, and a table of statutes, regulations, and cases cited. The Department will issue the final results of this administrative review, including the results of its analysis of issues raised in any such written briefs or at the hearing, if held, not later than 120 days after the date of publication of this notice.

Assessment Rates

The Department will determine, and CBP shall assess, antidumping duties on all appropriate entries. We intend to issue appropriate assessment instructions directly to CBP 15 days after publication of the final results of review. In accordance with 19 CFR 351.212(b)(1), we have calculated an importer-specific per-unit assessment amount by dividing the total dumping duties due by the number of units in the sales we analyzed.

The Department clarified its “automatic assessment” regulation on May 6, 2003 (68 FR 23954). This clarification will apply to entries of subject merchandise during the period of review produced by Alpanil for which it did not know its merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash-Deposit Requirements

The following deposit requirements will be effective upon publication of the notice of final results of administrative review for all shipments of CVP 23 from India entered, or withdrawn from warehouse, for consumption on or after the date of publication, as provided by section 751(a)(2)(C) of the Act: (1) The cash-deposit rate for Alpanil will be the rate established in the final results of this review; (2) for a previously investigated company, the cash-deposit rate will continue to be the company-specific rate published in Antidumping Duty Order, 69 FR at 77989; (3) if the exporter is not a firm covered in this review or the less-than-fair-value investigation but the manufacturer is, the cash-deposit rate will be the rate established for the most recent period for the manufacturer of the merchandise; (4) if neither the exporter nor the manufacturer has its own rate, the cash-deposit rate will be 27.48 percent, the “all-others” rate published in Antidumping Duty Order, 69 FR at 77989. These deposit requirements, when imposed, shall remain in effect until further notice.

Notification to Importer

This notice also serves as a preliminary reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

These preliminary results of administrative review are issued and published in accordance with sections 751(a)(1) and 777(i)(1) of the Act.

Dated: December 3, 2007.
Stephen J. Claeys,
Acting Assistant Secretary for Import Administration.

[FR Doc. E7-23805 Filed 12-6-07; 8:45 am]

BILLING CODE 3510-DS-S